DEPARTMENT OF DEFENSE

Office of the Secretary

Proposed Collection; Comment Request

AGENCY: Department of Defense, Office of the Under Secretary of Defense for Acquisition, Technology, and Logistics.

ACTION: Notice.

SUMMARY: In compliance with section 3506(c)(2)(A) of the Paperwork Reduction Act of 1995, the Office of the Under Secretary of Defense for Acquisition, Technology, and Logistics, announces the proposed extension of a currently approved collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarify of the information to be collected; and (d) ways to minimize the burden of the information collection on respondents, including through the use of automated collection techniques or other forms of information technology.

DATES: Consideration will be given to all comments received by May 29, 2001.

ADDRESSES: Interested parties should submit written comments and recommendations on the proposed information collection to: Defense Technical Information Center, DoD Scientific and Technical Information Policy Office, ATTN: DTIC-S, 8725 John J. Kingman Road, Suite 0944, Fort Belvoir, VA 22060-6218; E-mail comments submitted via the Internet should be addressed to: dappler@dtic.mil.

FOR FURTHER INFORMATION CONTACT: To request further information on this proposed information collection, or to obtain a copy of the proposal and associated collection instrument, please write to the above address or call Mr. David Appler at (703) 767-9160.

Title, Associated Form, and OMB Number: Militarily Critical Technical Data Agreement, DD Form 2345, OMB Control Number 0704-0207.

Needs and Uses: The information collection requirement is necessary as a basis for certifying individuals or businesses to have access to DoD export-controlled militarily critical technical data subject to the provisions of 32 CFR 250. Individuals and enterprises that need access to unclassified DoD-controlled militarily critical technical data must certify on DD Form 2345, Militarily Critical Technical Data Agreement, that data will be used only in ways that will inhibit unauthorized access and maintain the protection afforded by U.S. export control laws. The information collected is disclosed only to the extent consistent with prudent business practices, current regulations, and statutory requirements and is so indicated on the Privacy Act Statement of DD Form 2345.

Affected Public: Businesses or other for-profit; Non-profit institutions.

Annual Burden Houses: 2,000.

Number of Annual Respondents: 6,000.

Annual Responses to Respondent: 1.

Average Burden Per Response: 20 Minutes.

Frequency: On occasion.

SUPPLEMENTARY INFORMATION:

Summary of Information Collection

Use of DD Form 2345 permits U.S. and Canada defense contractors to certify their eligibility to obtain certain unclassified technical data with military and space applications. Nonavailability of this information prevents defense contractors from accessing certain restricted databases and obstructs conference attendance where restricted data will be discussed.

Dated: March 22, 2001.
Patricia L. Toppings,
Alternate OSD Federal Register Liaison Officer, Department of Defense.

[FR Doc. 01-7760 Filed 3-28-01; 8:45 am]

BILLING CODE 5001-10-M